DEPARTMENT OF TRANSPORTATION

Federal Railroad Administration

[Waiver Petition Docket Number FRA-2006-25764]

Union Pacific Railroad Company; Notice of Public Hearing and Extension of Public Comment Period

On September 26, 2006, the Federal Railroad Administration (FRA) published a notice in the Federal Register (71 FR 56217) announcing the Union Pacific Railroad Company's (UP) request for a waiver of compliance from certain provisions of Title 49 Code of Federal Regulations (CFR) Part 232, Brake System Safety Standards for Freight and Other Non-passenger Trains and Equipment, and 49 CFR Part 215, Railroad Freight Car Safety Standards, for trains received in interchange from the Ferrocarriles Nationales de Mexico Railroad at the Calexico, California border crossing. Subsequently, on November 17, 2006, FRA published a notice in the Federal Register (71 FR 67011) announcing that UP had amended its original petition. Specifically, UP seeks approval to postpone performing Class I brake tests and freight car safety standards inspections until trains arrive at El Centro, California (a distance of approximately 10.1 miles). Trains would receive a Class III brake test-trainline continuity inspection prior to departing Calexico, and move to Heber, California (5.5 miles), where U.S. Customs and Border Protection (CBP) and U.S. Immigration and Customs Enforcement (ICE) personnel would inspect the trains. Upon completion of the CBP and ICE inspections, trains would continue to El Centro, California (4.6 miles), where the postponed brake tests and mechanical inspections would then be performed. Trains would be equipped with a compliant end-of-train device and move to El Centro at a speed not to exceed 20 mph.

FRA received several comments from interested parties requesting a public hearing. FRA hereby grants those requests.

Accordingly, a public hearing is hereby scheduled to begin at 9 a.m., on March 29, 2007, at Fairfield Inn & Suites El Centro, located at 503 Danenburg Drive, El Centro, California 92243. Interested parties are invited to present oral statements at the hearing. The informal hearing will be conducted in accordance with FRA's Rules of Practice (49 CFR 211.25) by a representative designated by FRA. FRA's representative will make an opening statement outlining the scope of the hearing and any additional procedures for the conduct of the hearing. The hearing will be a nonadversarial proceeding in which all interested parties will be given the opportunity to express their views regarding the waiver petition without cross-examination. After all initial statements have been completed, individuals wishing to make a brief rebuttal statement will be given an opportunity to do so in the same order in which the initial statements were made.

In addition, FRA is hereby extending the comment period to April 13, 2007. All communications concerning this waiver petition should identify the appropriate docket number (e.g. Waiver Petition Docket Number FRA-2006-25764) and may be submitted by one of the following methods:

• Web site: http://dms.dot.gov. Follow the instructions for submissions on the DOT electronic docket site;

• Fax: 202-493-2251;

• Mail: Docket Management Facility, U.S. Department of Transportation, 400 Seventh Street, SW., Nassif Building, Room PL-401, Washington, DC 20590-0001; or

• Hand Delivery: Room PL-401 on the plaza level of the Nassif Building, 400 Seventh Street, SW., Washington, DC, between 9 a.m. and 5 p.m., Monday through Friday, except Federal holidays.

All written communications concerning these proceedings are available for examination during regular business hours (9 a.m.-5 p.m.) at the above facility. Documents in the public docket are also available for review and copying on the Internet at the docket facility's Web site at http://dms.dot.gov.

Anyone is able to search the electronic form of all comments received into any of our dockets by the name of the individual submitting the comment (or signing the comment on behalf of an association, business, labor union, etc.). You may review the DOT's complete Privacy Act Statement in the Federal Register published on April 11, 2000 (Volume 65, Number 70; Pages 19477-78). The statement may also be found at http://dms.dot.gov.

Issued in Washington, DC on February 28, 2007.
Edward Pritchard,
Director, Office of Safety.

[FR Doc. E7-3798 Filed 3-2-07; 8:45 am]

BILLING CODE 4910-06-P